DEPARTMENT OF HEALTH AND HUMAN SERVICES

National Institutes of Health

Center for Scientific Review; Cancellation of Meeting

Notice is hereby given of the cancellation of the Center for Scientific Review Special Emphasis Panel, October 5, 2011, 3:30 p.m. to October 5, 2011, 6:30 p.m., Hyatt Regency Bethesda, One Bethesda Metro Center, Bethesda, MD 20814 which was published in the Federal Register on September 6, 2011, 76 FR 55076-55077.

The meeting is cancelled due to the reassignment of applications.

Dated: September 7, 2011.
Jennifer S. Spaeth,
Director, Office of Federal Advisory Committee Policy.

[FR Doc. 2011-23536 Filed 9-13-11; 8:45 am]

BILLING CODE 4140-01-P